DEPARTMENT OF THE INTERIOR

Bureau of Indian Affairs

Indian Reservation Roads Program Coordinating Committee

AGENCY: Bureau of Indian Affairs, Interior.

ACTION: Notice of the formulation of the Indian Reservation Roads Program Coordinating Committee under 25 CFR 170.155-158.

SUMMARY: The Secretary of the Interior is appointing tribal regional representatives to the Indian Reservation Roads (IRR) Program Coordinating Committee (Committee) as outlined under 25 CFR 170. The IRR final rules amending 25 CFR 170 include establishing a Committee to provide input and recommendations to the Bureau of Indian Affairs (BIA) and the Federal Highway Administration (FHWA) in developing IRR Program policies and procedures and to coordinate with and obtain input from tribes, BIA, and FHWA.

The Secretary announced on February 13, 2005, the request for nominations from tribal governments for representatives and alternates to serve on the Committee. Based on review of those nominations, the Secretary is announcing the representatives who will serve on the Committee in each of the 12 BIA regions.

FOR FURTHER INFORMATION CONTACT: Mr. LeRoy Gishi, Chief, Division of Transportation, Bureau of Indian Affairs, 1951 Constitution Avenue, NW., Mail Stop 20-SIB, Washington, DC 20240, Telephone 202-513-7711 or Fax 202-208-4696.

SUPPLEMENTARY INFORMATION: The IRR final rules amending 25 CFR 170, effective November 13, 2004, are the result of negotiated rulemaking between tribal and Federal representatives under the Transportation Equity Act for the 21st Century (TEA-21). The IRR final rules include the negotiated rulemaking committee's recommendation that the Secretary of the Interior and the Secretary of Transportation establish an IRR Program Coordinating Committee to provide input and recommendations to BIA and FHWA in developing IRR Program policies and to coordinate with and obtain input from tribes, BIA, and FHWA. As recommended, the Committee will consist of 12 tribal regional representatives (one from each BIA region) and two non-voting Federal representatives (from BIA and FHWA). In addition to the 12 tribal regional representatives, the Committee will include one alternate from each BIA region who will attend Committee meetings in the absence of the tribal regional representative. Each tribal regional representative must be a tribal governmental official or employee with authority to act for the tribal government.

The Secretary must select regional tribal representatives and alternates from nominees officially proposed by the region's tribes. The Secretary will appoint the initial tribal regional representatives and alternates from each BIA region to either a 1-, 2- or 3-year appointment in order to establish a yearly, one-third change in tribal regional representatives. All appointments thereafter will be for 3-year terms. To the extent possible, the Secretary must make the selection so that there is representation from a broad cross-section of large, medium, and small tribes. The Secretary of the Interior will provide guidance for the replacement of representatives.

The Secretary has selected 12 representatives from the regional nominees. In addition, 11 alternates have also been selected by the Secretary. No additional candidates were submitted by the Eastern Region tribes. The Secretary will entertain separate nominations from the tribes of Eastern Region. An orientation meeting for the primary and alternate committee members will be held at the BIA Southwest Regional Office, Conference Room #351, located at 1001 Indian School Road, NW, Albuquerque, NM, (505) 346-6834, on September 27-28, 2005.

IRR Program Coordinating Committee Members

Primary

Pete Red Tomahawk, Standing Rock Sioux Tribe, Great Plains Region

Chuck Tsoodle, Kiowa Tribe, Southern Plains Region

John Smith, Wind River Tribes, Rocky Mountain Region

Ed Thomas, Central Council of Tlingit Haida, Alaska Region

James Garrigan, Red Lake Band of Chippewa Indians, Midwest Region

Melanie (Fourkiller) Knight, Cherokee Nation of Oklahoma, Eastern Oklahoma Region

Erin S. Forrest, Hualapai Tribe, Western Region

Bo Mazzetti, Rincon Band of Lusieno Indians, Pacific Region

Royce Gchachu, Pueblo of Zuni, Southwest Region

Sampson Begay, Navajo Nation, Navajo Region

Michael Marchand, Confederated Tribes of the Colville, Northwest Region

Clint Hill, Oneida Indian Nation, Eastern Region

Alternates

Ed Hall, Three Affiliated Tribes of Mandan, Hidatsa and Arikira, Great Plains Region

Tim Ramirez, Prairie Band Potawatomi Nation, Southern Plains Region

C. John Healy, Sr., Fort Belnap Indian Community, Rocky Mountain Region

Wayne Lukin, Native Village of Port Lions, Alaska Region

Alof Olson, Mille Lacs Band of Ojibwe Indians, Midwest Region

Robert Endicott, Cherokee Nation of Oklahoma, Eastern Oklahoma Region

Kent Andrews, Salt River Pima Maricopa Indian Community, Western Region

Peggy O'Neill, Yurok Tribe, Pacific Region

Ed Little, Mescalero Apache Tribe, Southwest Region

Wilfred Frazier, Navajo Nation, Navajo Region

Kirk Vinish, Lummi Nation, Northwest Region

No candidates submitted, Eastern Region

Federal Members

Robert Sparrow, Federal Lands Highways, Washington DC

LeRoy Gishi, BIA Division of Transportation, Washington DC

The following table shows the term appointments by region:

Region | Term | Region | Term | Region | Term
Eastern Oklahoma | 1 | Great Plains | 2 | Southern Plains | 3
Western | 1 | Rocky Mountain | 2 | Alaska | 3
Southwest | 1 | Midwest | 2 | Pacific | 3
Northwest | 1 | Navajo | 2 | Eastern | 3

IRR Program Coordinating Committee Responsibilities

The responsibilities of the Committee are to provide input and recommendations to BIA and FHWA during the development or revision of:

• BIA/FHWA IRR Program Stewardship Plan;

• IRR Program policy and procedures;

• IRR Program eligible activities' determinations;

• IRR Program transit policy;

• IRR Program regulations;

• IRR Program management systems policy and procedures;

• IRR Program fund distribution formula (under 25 CFR 170.157); and

• National tribal transportation needs.

The Committee also reviews and provides recommendations on IRR Program national concerns, including implementation of 25 CFR 170, as amended.

IRR Program Coordinating Committee Role in the Funding Process

The Committee will provide input and recommendations to BIA and FHWA for:

• New IRR inventory data format and form;

• Simplified cost to construct (CTC) methodology (including formula calculations, formula program and design, and bid tab methodology);

• Cost elements;

• Over-design issues;

• Inflation impacts on $1 million cap for the Indian Reservation Roads High Priority Project (IRRHPP) and Emergency Projects (including the IRRHPP Ranking System and emergency/disaster expenditures report); and

• The impact of including funded but non-constructed projects in the CTC calculation.

IRR Program Coordinating Committee Conduct of Business

The Committee will hold two meetings per fiscal year. The Committee may call additional meeting(s) with the consent of one-third of Committee members or BIA or FHWA may call additional meeting(s). A quorum consists of eight voting Committee members. The Committee will operate by consensus or majority vote, as the Committee determines in its protocols. The Committee must elect from among the Committee membership a Chair, Vice-Chair, and other officers. These officers will be responsible for preparing for and conducting Committee meetings and summarizing meeting results. The Committee may prescribe other duties for the officers. Any Committee member can submit an agenda item to the Committee Chair.

IRR Program Coordinating Committee Reporting Requirements and Budget

The Committee must keep the Secretary and tribes informed through an annual accomplishment report provided within 90 days after the end of each fiscal year. The Committee's budget, funded through the IRR Program management and oversight funds, will not exceed $150,000 annually.

Dated: August 18, 2005.
Michael D. Olsen,
Acting Principal Deputy Assistant Secretary—Indian Affairs.

[FR Doc. 05-17824 Filed 9-7-05; 8:45 am]

BILLING CODE 4310-LY-P